DEPARTMENT OF STATE

[Public Notice: 7273]

Bureau of Educational and Cultural Affairs (ECA) Request for Grant Proposals: English Language Materials Training and Development Program

Announcement Type: New Cooperative Agreement.

Funding Opportunity Number: ECA/A/L-11-02.

Catalog of Federal Domestic Assistance Number: 19.421.

Key Dates: Application Deadline: March 15, 2011.

Executive Summary: The Office of English Language Programs of the Bureau of Educational and Cultural Affairs (ECA/A/L) announces an open competition for the English Language Materials Training and Development Program, including a U.S. exchange component in summer, 2012. U.S. public and private universities with a graduate TEFL program meeting the provisions described in Internal Revenue Code section 26 U.S.C. 501(c)(3) may submit proposals to implement the program that will include the following: 1. A needs assessment for English language instructional materials abroad; 2. an rigorous, online academic program in materials development for 26 international participants; 3. a three-week, U.S. exchange program for the same 26 participants including materials development training; 4. the revision of at least three products/publications presently in the ECA/A/L materials catalogue and the development of at least three new products/publications. More detailed information about each of these four components of this cooperative agreement are detailed in the Program Objectives, Goals, and Implementation (POGI). Funding is pending the availability of FY-2011 funds.

For the needs assessment for English language instructional materials, the proposal should include a detailed plan for the recipient organization to perform a needs assessment among English language learners and instructors outside the U.S., including present and past participants in ECA/A/L programs as well as the Regional English Language Officers (RELOs), the corps of State Department Specialist Foreign Service Officers based around the world. The objective of the materials needs assessment will be to identify instructional materials preferences and needs of learners and instructors of English. This information will serve to inform the development and implementation of the other components of this program.

For the online program in materials development, proposals must outline and demonstrate an ability to produce an online program that blends various social media and web-based technologies to provide professional development opportunities on materials assessment, review, adaptation and development to approximately twenty-six foreign participants. The participants will be selected by ECA/A/L in consultation with the RELOs. Participants will be: citizens of the country in which they reside; university degree holders, preferably at the graduate level in the fields of TEFL or Applied Linguistics; employed in a position which includes substantive responsibilities in the area of materials assessment, adaptation, development, or closely related area; in positions of authority with regard to the adaptation, development and use of instructional materials at the institutional, regional, and/or national levels; and professionally proficient in English. The online program must commence at least ten weeks before the U.S. exchange and include at least five sessions after completion of the U.S. exchange. The program must also incorporate existing ECA/A/L materials, drafts of revised materials, and new products/publications as illustrations throughout the online program.

For the U.S. university-based Exchange component, the recipient will develop and implement a workshop in the U.S. for the twenty-six English language teaching professionals who have been participating in online program. The four-week U.S. Exchange should be implemented in July of 2012 and include an orientation to the U.S.; an intensive program on materials assessment, adaptation, review and development; cultural and community service activities; and a three day briefing in Washington, DC at the conclusion of the exchange component. The Washington, DC briefing should familiarize participants with ECA and other relevant bureaus within the State Department, allow participants to meet with English language materials developers from Washington, DC, and provide an opportunity for participants to share their materials development program development plans. Participants will be encouraged to develop a materials development program to implement in their home countries following the exchange program. The proposal should include a detailed plan for the content, administration, and implementation of the U.S. exchange.

For the materials revision and production component, the recipient will revise at least three current ECA/A/L products/publications and develop at least three new products/publications based on the findings of the materials needs analysis. The recipient will prepare revised drafts of existing ECA/A/L materials and new materials based on feedback from program participants garnered during the second and third components of this program and present at least three publishable revised ECA/A/L products/publications and at least three publishable new products/publications to ECA/A/L for review and future publication.

Applicant organizations should demonstrate a substantial track record of conducting substantive academic programs for EFL educators with a particular emphasis on materials assessment and development, conducting needs assessments internationally, developing and implementing training programs through virtual media, developing English language materials for teachers and learners in EFL settings, and managing logistical and administrative aspects of similar programs.

(I.) Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: The purpose of the English Language Materials Training and Development Program is to develop high quality, diverse, and engaging materials for English teachers and learners globally and provide opportunities for professional development for educators involved in English language materials assessment, review, adaptation and/or development.

Overview: The online course in materials development and the U.S. based summer institute should provide participants with the skills and experience to review, assess and adapt/revise existing English language instructional materials and the ability to develop context appropriate new materials of their own. These programs should expose participants to drafts of revised ECA/A/L materials and new materials being developed for ECA/A/L, insights into the role of instructional materials in the teaching/learning process and approaches to developing learner-centered instructional materials. These programs should also include a substantive cultural/educational exchange experience in the United States.

Program Design: Participants will be selected by the Office of English Language Programs in consultation with Regional English Language Officers (RELOs) and Public Affairs Officers (PAOs) at U.S. embassies.

The program will focus on publications relevant and appropriate to ECA/A/L's ongoing English language programming efforts around the world. Activities should focus on updating existing materials and creating new materials (print, audio, and online) for ECA/A/L's current titles. Selection of titles to expand and revise will be made by the Office of English Language Programs in consultation with the recipient based on the results of the needs assessment carried out by the recipient.

The Department of State will retain full foreign ownership of the texts that are prepared including the right to print, publish, repurpose, and distribute these texts in all media including electronic media, and in all languages and editions.

The program should be designed as an intensive, academically rigorous online course and summer institute for an experienced group of graduate level educators from abroad. Both the online course and summer institute should be organized through an integrated series of lectures (virtual and in-person), readings, seminar discussions, and site (virtual and in-person) visits. Both the online course and summer institute should reflect the participants' previous education and experience and promote strategies for participants to share their knowledge with counterparts and with students in their home countries.

Syllabus: Proposals must include syllabi for both the online course and the summer institute that identify the subject matter for each thematic unit and specify dates, proposed speakers and/or trainers, proposed site visits (virtual or in-person), and proposed readings in ELT materials design and development. The syllabi must clearly show how assignments, readings, and speakers will advance the goals of the program. Overall, proposals will be reviewed on the basis of their responsiveness to RFGP criteria, coherence, clarity, and attention to detail. The accompanying Project Objectives, Goals, and Implementation (POGI) document provides program-specific guidelines that all proposals must address fully.

Program Dates: It is anticipated that the cooperative agreement will begin on or about May 1, 2011, and the recipient should complete all exchange activities by March 31, 2013. The exchange program will take place during June/July, 2012. Please refer to additional program specific guidelines in the Program Objectives, Goals, and Implementation (POGI) document.

Program Guidelines: Under the auspices of the Cooperative Agreement, the Bureau's Office of English Language Programs and U.S. embassies are substantially involved in the English Language Materials Training and Development Program. The Bureau provides overall program and policy design and direction, with substantial involvement at all levels of the program while U.S. embassies are responsible for the in-country aspects of the program. The roles and responsibilities of the Bureau include:

• Inviting RELOs to nominate program participants;

• Analyzing the prospective impact of program on the quality of instructional materials;

• Reviewing nominees and selecting participants for the program;

• Approval of ECA/A/L materials to adapt and of new materials to develop; and

• Providing feedback on the drafts of adapted and new materials and final approval of all draft materials.

Posts are responsible for:

• Identifying and nominating program participants from their countries/regions;

• Briefing program participants on all aspects of the program;

• Monitoring and supporting the online segment of the program;

• Monitoring and reporting to ECA/A/L on program impact;

• Facilitating communication between the recipient and program participants regarding exchange logistics (e.g. obtaining visas); and

• Conducting post-program follow-up opportunities as appropriate.

(II.) Award Information

Type of Award: Cooperative Agreement. ECA's level of involvement in this program is listed under number I above.

Fiscal Year Funds: FY 2011.

Approximate Total Funding: $750,000 (pending the availability of funds).

Approximate Number of Awards: One (1)

Approximate Average Award: One award of $750,000.

Anticipated Award Date: Pending availability of funds, May 1, 2011.

Anticipated Program Completion Date: March 31, 2013.

Additional Information: Pending successful implementation of this program and the availability of funds in subsequent fiscal years, it is ECA's intent to renew this cooperative agreement for two additional fiscal years, before openly competing it again.

(III.) Eligibility Information

III.1. Eligible applicants: Applications may be submitted by public and private U.S. colleges and universities with a graduate TEFL program meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved cooperative agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a) Bureau grant guidelines require that organizations with fewer than four years experience in conducting international exchanges be limited to $60,000 in Bureau funding. ECA anticipates awarding one cooperative agreement, in an amount up to $750,000 to support program and administrative costs required to implement the English Language Materials Training and Development Program. Therefore, organizations with less than four years experience in conducting international exchanges are ineligible to apply under this competition. The Bureau encourages applicants to provide maximum levels of cost sharing and funding in support of its programs.

(IV.) Application and Submission Information

Note: Please read the complete Federal Register announcement before sending inquiries or submitting proposals. Once the RFGP deadline has passed, Bureau staff may not discuss this competition with applicants until the proposal review process has been completed.

IV.1. Contact Information To Request an Application Package:

Please contact Craig Dicker of the Office of English Language Programs, ECA/A/L, Room 4-B15, U.S. Department of State, SA-5, 2200 C Street, NW., Washington, DC 20037, telephone: (202) 632-9277, fax: (202) 632-9464, e-mail: Dickercl@state.gov to request a Solicitation Package. Please refer to the Funding Opportunity Number ECA/A/L-11-02 located at the top of this announcement when making your request.

Alternatively, an electronic application package may be obtained from grants.gov. Please see section IV.3f for further information.

The Solicitation Package contains the Proposal Submission Instruction (PSI) document which consists of required application forms, and standard guidelines for proposal preparation.

It also contains the Program Objectives, Goals and Implementation (POGI) document, which provides specific information, award criteria and budget instructions tailored to this competition.

Please specify Craig Dicker, telephone: (202) 632-9277, and refer to the Funding Opportunity Number ECA/A/L-11-02 located at the top of this announcement on all other inquiries and correspondence.

IV.2. To Download a Solicitation Package Via Internet: The entire Solicitation Package may be downloaded from the Bureau's Web site at http://exchanges.state.gov/grants/open2.html or from the Grants.gov Web site at http://www.grants.gov. Please read all information before downloading.

IV.3. Content and Form of Submission: Applicants must follow all instructions in the Solicitation Package. The original and seven copies of the application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Program Objectives, Goals and Implementation (POGI) document for additional formatting and technical requirements.

IV.3c. All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

The recipient will be responsible for issuing DS-2019 forms to participants in this program.

A copy of the complete regulations governing the administration of Exchange Visitor (J) programs is available at http://exchanges.state.gov.

Please refer to the Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the Program's success, both as the activities unfold and at the end of the program. The Bureau recommends that your proposal include a draft survey questionnaire or other technique plus a description of a methodology to use to link outcomes to original Program objectives. The Bureau expects that the recipient will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your Program's objectives, your anticipated Program outcomes, and how and when you intend to measure these outcomes (performance indicators). The more that outcomes are “smart” (specific, measurable, attainable, results-oriented, and placed in a reasonable time frame), the easier it will be to conduct the evaluation. You should also show how your Program objectives link to the goals of the program described in this RFGP.

Your monitoring and evaluation plan should clearly distinguish between program outputs and outcomes. Outputs are products and services delivered, often stated as an amount. Output information is important to show the scope or size of Program activities, but it cannot substitute for information about progress towards outcomes or the results achieved. Examples of outputs include the number of people trained or the number of seminars conducted. Outcomes, in contrast, represent specific results a Program is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The recipient will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. The Office of English Programs requests that at least one member of the staff should be well versed in current methodology of teaching English as a foreign language preferably holding an advanced degree in Teaching English as a Foreign Language (TEFL), applied linguistics or a related field. In depth knowledge of best practices in the English language teaching (ELT) field is preferable. Wherever possible please streamline administrative processes.

IV.3e. Please take the following information into consideration when preparing your budget:

IV.3e.1. Applicants must submit SF-424A—“Budget Information—Non-Construction Programs” along with a comprehensive budget for the entire program. The budget should not exceed $750,000 including all administrative costs. There must be a summary budget as well as breakdowns reflecting both administrative and program budgets for host campus and foreign teacher involvement in the program. Applicants may provide separate sub-budgets for each program component, phase, location, or activity to provide clarification.

The summary and detailed administrative and program budgets should be accompanied by a narrative which provides a brief rationale for each line item including a methodology for estimating appropriate average maintenance allowance levels and tuition costs (as applicable) for the participants, and the number that can be accommodated at the levels proposed. The total administrative costs funded by the Bureau must be reasonable and appropriate.

IV.3e.2. Allowable costs for the program and additional budget guidance are outlined in detail in the POGI document. Please refer to the Solicitation Package for complete budget guidelines and formatting instructions.

IV.3f. Application Deadline and Methods of Submission:

Application Deadline Date: March 15, 2011.

Reference Number: ECA/A/L-11-02.

Methods of Submission: Applications may be submitted in one of two ways:

(1.) In hard-copy, via a nationally recognized overnight delivery service (i.e., DHL, Federal Express, UPS, Airborne Express, or U.S. Postal Service Express Overnight Mail, etc.), or

(2.) Electronically through http://www.grants.gov.

Along with the Program Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven (7) copies of the application should be sent to: U.S. Department of State, Program Management Division, ECA-IIP/EX/PM, Ref.: ECA/A/L-11-02 SA-5, Floor 4, Department of State, 2200 C Street, NW., Washington, DC 20522-0504.

Applicants submitting hard-copy applications must also submit the “Executive Summary” and “Proposal Narrative” sections of the proposal in text (.txt) format on a PC-formatted disk.

IV.3f.2. Submitting Electronic Applications

Applicants have the option of submitting proposals electronically through Grants.gov (http://www.grants.gov). Complete solicitation packages are available at Grants.gov in the “Find” portion of the system. Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800 518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

(V.) Application Review Information

V.1. Review Process

The Bureau will review all proposals for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Quality of Program Plan and Ability to Achieve Program Objectives: Proposals should exhibit originality, substance, precision, and relevance to the Bureau's mission as well as the objectives of the English Language Materials Training and Development Program. It should include an effective, feasible plan and clearly demonstrate how the institution will meet the program's objectives. A detailed agenda and relevant work plan should demonstrate substantive undertakings and logistical capacity.

2. Multiplier effect/impact: The proposed program should strengthen long-term mutual understanding, including maximum sharing of information and establishment of long-term institutional and individual linkages.

3. Support for Diversity: Proposals should demonstrate substantive support of the Bureau's policy on diversity. Achievable and relevant features should be cited in both program administration (selection of speakers, program venue and program evaluation) and program content (orientation and wrap-up sessions, program meetings, resource materials and follow-up activities).

4. Institutional Capacity and Record: Proposals should demonstrate an institutional record of successful exchange programs, including responsible fiscal management and full compliance with all reporting requirements for past Bureau grants as determined by Bureau Grants Staff. The Bureau will consider the past performance of prior recipients and the demonstrated potential of new applicants. The successful proposal will demonstrate the organization's experience in international educational exchange and intensive programs, and an understanding of international differences of culture, religion, and system of education.

5. Follow-up and Follow-on Activities: Proposals should discuss provisions made for follow-up with returned participants as a means of establishing longer-term individual and institutional linkages. Proposals also should provide a plan for continued follow-on activity (without Bureau support) ensuring that the Bureau supported programs are not isolated events. Proposals also should include a plan for tracking and maintaining updated lists of all alumni. These lists should be made available to ECA/A/L and the Office of Alumni Affairs.

6. Program Evaluation: Proposals should discuss provisions to evaluate the program's success, both as the activities unfold and at the end of the program. A draft survey questionnaire or other technique plus description of a methodology to use to link outcomes to original program objectives is recommended.

7. Cost-effectiveness and Cost Sharing: The overhead and administrative components of the proposal, including salaries and honoraria, should be kept as low as possible. All other items should be necessary and appropriate. Proposals should maximize cost-sharing through other private sector support as well as institutional direct funding contributions.

(VI.) Award Administration Information

VI.1a. Award Notices

Final awards cannot be made until funds have been appropriated by Congress, allocated and committed through internal Bureau procedures. Successful applicants will receive an Federal Assistance Award (FAA) from the Bureau's Grants Office. The FAA and the original cooperative agreement proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements: You must provide ECA with a hard copy original plus one copy of the following reports:

(1.) Quarterly program and financial reports;

(2.) A final program and financial report no more than 90 days after the expiration of the award;

(3.) A concise, one-page final program report summarizing program outcomes no more than 90 days after the expiration of the award. This one-page report will be transmitted to OMB, and be made available to the public via OMB's USAspending.gov Web site—as part of ECA's Federal Funding Accountability and Transparency Act (FFATA) reporting requirements;

(4.) A SF-PPR, “Performance Progress Report” Cover Sheet with all program reports.

The recipient will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final Federal Assistance Award.

(VII.) Agency Contacts

For questions about this announcement, contact: Craig Dicker, Office of English Language Programs, ECA/A/L, Room 4-B015, ECA/A/L, U.S. Department of State, SA-5, 2200 C Street, NW., Washington, DC 20037, Tel: 202-632-9277; Fax: 202-632-9464, DickerCL@state.gov.

All correspondence with the Bureau concerning this RFGP should reference the above title and number ECA/A/L-11-02.

Please read the complete announcement before sending inquiries or submitting proposals. Once the RFGP deadline has passed, Bureau staff may not discuss this competition with applicants until the proposal review process has been completed.

(VIII.) Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: December 16, 2010.
Ann Stock,
Assistant Secretary for Educational and Cultural Affairs, Bureau of Educational and Cultural Affairs, U.S. Department of State.

[FR Doc. 2010-32272 Filed 12-22-10; 8:45 am]

BILLING CODE 4710-05-P